DEPARTMENT OF JUSTICE

Bureau of Prisons

28 CFR Part 543

[BOP-1180-I]

RIN 1120-AB80

Federal Tort Claims Act—Technical Changes; Correction

AGENCY: Bureau of Prisons, Justice.

ACTION: Correcting amendment.

SUMMARY: In this document, the Bureau of Prisons (Bureau) corrects inadvertent errors and omissions in its regulations caused by errors in the interim final rule titled “Federal Tort Claims Act—Technical Changes” published in the Federal Register on November 7, 2023.

DATES: This correcting amendment is effective December 20, 2023.

FOR FURTHER INFORMATION CONTACT: Daniel J. Crooks III, Assistant General Counsel/Rules Administrator, at Legislative & Correctional Issues Branch, Office of General Counsel, Bureau of Prisons, 320 First Street NW, Washington, DC 20534 or at (202) 353-4885.

SUPPLEMENTARY INFORMATION:

Need for Correction

On November 7, 2023, the Bureau published an interim final rule (IFR) in the Federal Register at 88 FR 76656 that made technical changes to how the Bureau processes Federal Tort Claims Act (FTCA) claims. This document corrects inadvertent errors and omissions in its regulations caused by errors in that rule.

First, this document revises the headings of two paragraphs in § 543.31 to conform with the statement-like form of other paragraph headings we amended in the IFR. Thus, the heading of § 543.31(a) should be changed from “Who may file a claim?” to “Claimant,” and the heading of § 543.31(b) should be changed from “Where do I obtain a form for filing a claim?” to “Claim form.”

Second, the third instruction of the IFR revised paragraphs (a) through (d) and (f) of § 543.32. Paragraphs (g) and (h) were missing from that instruction, while they were correctly included in the amendatory language. In addition, the heading to paragraph (e) needs to be changed to conform with the declaratory headings of the other paragraphs. Finally, paragraph (i) needs to be deleted because, with the revisions to the other paragraphs, paragraph (i) is redundant.

List of Subjects in 28 CFR Part 543

Prisoners.

Accordingly, 28 CFR part 543 is corrected by making the following correcting amendments:

PART 543—LEGAL MATTERS

1. The authority citation for part 543 continues to read as follows:

Authority: 5 U.S.C. 301; 18 U.S.C. 3621, 3622, 3624, 4001, 4042, 4081, 4082 (Repealed in part as to offenses committed on or after November 1, 1987), 5006-5024 (Repealed October 12, 1984 as to Offenses committed after that date), 5039; 28 U.S.C. 509, 510, 1346(b), 2671-80; 28 CFR 0.95-0.99, 0.172, 14.1-11.

2. Amend § 543.31 by revising the section heading and the headings for paragraphs (a) and (b) to read as follows:

§ 543.31 Presenting a claim.

(a) Claimant. * * *

(b) Claim form. * * *

* * * * *

3. Amend § 543.32 by:

a. Revising the heading for paragraph (e) and paragraphs (g) and (h); and

b. Removing paragraph (i).

The revisions read as follows:

§ 543.32 Processing the claim.

* * * * *

(e) Central Office review. * * *

* * * * *

(g) Acceptance of settlement. If you accept a settlement, you give up your right to bring a lawsuit against the United States or against any employee of the government whose action or lack of action gave rise to your claim.

(h) Response timeline. Generally, you will receive a decision regarding your claim within six months of when you properly present the claim. If you have not received a letter either proposing a settlement or denying your claim within six months after the date your claim was presented, you may assume your claim is denied. You may then proceed to file a lawsuit in the appropriate United States District Court.

Daniel J. Crooks III,
Assistant General Counsel/Rules Administrator, Federal Bureau of Prisons.

[FR Doc. 2023-28011 Filed 12-19-23; 8:45 am]

BILLING CODE 4410-05-P